DEPARTMENT OF THE INTERIOR

Bureau of Ocean Energy Management

[OMB Control Number 1010-0048]

Information Collection: Geological and Geophysical Explorations of the Outer Continental Shelf; Proposed Collection for OMB Review; Comment Request; MMAA104000

ACTION: 60-day notice.

SUMMARY: To comply with the Paperwork Reduction Act of 1995 (PRA), the Bureau of Ocean Energy Management (BOEM) is inviting comments on a collection of information that we will submit to the Office of Management and Budget (OMB) for review and approval. The information collection request (ICR) concerns the paperwork requirements in the regulations under 30 CFR 551, Geological and Geophysical (G&G) Explorations of the Outer Continental Shelf.

DATES: Submit written comments by October 21, 2014.

ADDRESSES: Please send your comments on this ICR to the BOEM Information Collection Clearance Officer, Arlene Bajusz, Bureau of Ocean Energy Management, 381 Elden Street, HM-3127, Herndon, Virginia 20170 (mail); or arlene.bajusz@boem.gov (email); or 703-787-1209 (fax). Please reference ICR 1010-0048 in your comment and include your name and return address.

FOR FURTHER INFORMATION CONTACT: Arlene Bajusz, Office of Policy, Regulations, and Analysis at (703) 787-1025 to request a copy of the ICR.

SUPPLEMENTARY INFORMATION: OMB Control Number: 1010-0048.

Title: 30 CFR 551, Geological and Geophysical (G&G) Explorations of the Outer Continental Shelf.

Form: BOEM-0327, Requirements for G&G Explorations or Scientific Research on the OCS.

Abstract: The Outer Continental Shelf (OCS) Lands Act, as amended (43 U.S.C. 1331 et seq. and 43 U.S.C. 1801 et seq.), authorizes the Secretary of the Interior to prescribe rules and regulations to administer leasing of mineral resources on the OCS. The OCS Lands Act (43 U.S.C. 1340) states that “any person authorized by the Secretary may conduct geological and geophysical explorations in the [O]uter Continental Shelf, which do not interfere with or endanger actual operations under any lease maintained or granted pursuant to this subchapter, and which are not unduly harmful to aquatic life in such area.” The section further requires that permits to conduct such activities may only be issued if it is determined that the applicant is qualified; the activities do not result in pollution or create hazardous or unsafe conditions; the activities do not unreasonably interfere with other uses of the area or disturb any site, structure, or object of historical or archaeological significance. Applicants for permits are required to submit form BOEM-0327 to provide the information necessary to evaluate their qualifications, and upon approval, respondents are issued a permit.

The Independent Offices Appropriations Act (31 U.S.C. 9701), the Omnibus Appropriations Bill (Pub. L. 104-133, 110 Stat. 1321, April 26, 1996), and the OMB Circular A-25 authorize Federal agencies to recover the full cost of services that confer special benefits. All G&G permits are subject to cost recovery, and BOEM regulations specify service fees for these requests.

Regulations to carry out these responsibilities are contained in 30 CFR 551 and are the subject of this information collection renewal. BOEM uses the information to ensure there is no environmental degradation, personal harm or unsafe operations and conditions, damage to historical or archaeological sites, or interference with other uses; to analyze and evaluate preliminary or planned drilling activities; to monitor progress and activities in the OCS; to acquire G&G data and information collected under a Federal permit offshore; and to determine eligibility for reimbursement from the government for certain costs. Information on the G&G characteristics of oil- and gas-bearing physiographic regions aids the Secretary in obtaining a proper balance among the potentials for environmental damage, the discovery of oil and gas, and associated impacts on affected coastal States.

In this renewal, BOEM is updating form BOEM-0327 to clarify the types of copies being requested, delete incorrect language, make recommendations for faster processing, and update addresses. To respond to the number of questions BOEM receives from permittees on the form, BOEM is also clarifying wording, providing examples/tables to reduce confusion, and separating requirements by OCS Region to further assist permittees. BOEM is not asking for more information, just outlining current requirements in more detail. We do not expect these improvements to change the 3-hour burden for the majority of permit applications, which are associated with G&G exploration in the Gulf of Mexico OCS Region.

However, for applications in the Alaska OCS Region and Atlantic OCS, BOEM is adjusting the burden to be significantly higher (300 hours), not because of the form improvements, but because of the requirements to submit environmental information sufficient for the National Environmental Policy Act (NEPA) review about the effects of sound on marine mammals and other protected species. To acquire G&G data, companies need to (1) obtain a BOEM permit, (2) obtain an Incidental Harassment Authorization (IHA) from the National Marine Fisheries Service, and (3) coordinate their activities with the Department of Defense (DOD) and the National Aeronautics and Space Administration (NASA). Much of this work has already been done for the Gulf of Mexico OCS, where G&G activity has been ongoing for years. While prospective permittees must obtain the IHA and coordinate with DOD and NASA before BOEM issues a permit, the time or burden to fill out form BOEM-0327 and acquire the information for the form remains the same. However, in areas outside of the Gulf of Mexico OCS Region, BOEM is accounting for the total time companies will expend to compile and submit the necessary information to obtain the required authorizations to acquire a BOEM permit in these areas as well as coordinate with DOD/NASA. Therefore, the burden for applicants in the Alaska and Atlantic OCS areas to describe the environmental effects and proposed mitigations is estimated much higher.

To complement the changes made in form BOEM-0327, BOEM is also separating the requirements in the BOEM-issued permits by OCS Region to further assist permittees. The actual permits are filled in by BOEM and do not incur a respondent hour burden.

We protect proprietary information according to the Freedom of Information Act (5 U.S.C. 552) and its implementing regulations (43 CFR part 2), and under regulations at 30 CFR 551. No items of a sensitive nature are collected. Responses are mandatory.

Frequency: On occasion, annual, or as specified in permits.

Description of Respondents: Potential respondents comprise Federal OCS oil, gas, and sulphur permittees or notice filers.

Estimated Reporting and Recordkeeping Hour Burden: We estimate the burden for this collection to be about 9,876 hours. The following table details the individual components and respective hour burden estimates of this ICR.

Burden Table
Citation 30 CFR 551 | Reporting and recordkeeping requirement | Non-Hour Cost Burden*: Hour burden | Non-Hour Cost Burden*: Average No. of annual responses | Non-Hour Cost Burden*: Annual burden hours
CFR 551.1 through 551.6
551.4(a), (b); 551.5(a), (b), (d); 551.6; 551.7 | Apply for permits (form BOEM-0327) to conduct G&G exploration, including deep stratigraphic tests/revisions when necessary. Submit required information | ** 300 AK & ATL | 13 Applications | 3,900
|  | 3 GOM | 74 Applications | 222
|  | 87 applications × $2,012 = $175,044
551.4(b); 551.5(c), (d); 551.6 | File notices to conduct scientific research activities, including notice to BOEM prior to beginning and after concluding activities | 1 | 1 Notice | 1
551.6(b) 551.7(b)(5) | Notify BOEM if specific actions should occur; report archaeological resources (no instances reported since 1982). Consult with other users | 1 | 1 Notice | 1
Subtotal |  |  | 89 responses | 4,124 hours
|  |  | $175,044 non-hour cost burden
30 CFR 551.7 through 551.9
551.7; 551.8 | Submit APD and Supplemental APD to BSEE | Burden included under BSEE regulations at 30 CFR 250, Subpart D (1014-0018). |  | 0
551.7; 551.8(b) | Submit information on test drilling activities under a permit, including required information and plan revisions (e.g., drilling plan and environmental report) | 1 | 1 | 1
551.7(c) | Enter into agreement for group participation in test drilling, including publishing summary statement; provide BOEM copy of notice/list of participants (no agreements submitted since 1989) | 1 | 1 Agreement | 1
551.7(d) | Submit bond(s) on deep stratigraphic test and required securities | Burden included under 30 CFR Part 556 (1010-0006). |  | 0
551.8(a) | Request reimbursement for certain costs associated with BOEM inspections (no requests in many years) | 1 | 1 Request | 1
551.8(b), (c) | Submit modifications to, and status/final reports on, activities conducted under a permit | ** 38 AK & ATL | 13 Respondents × 10 Reports = 130 | 4,940
|  | 2 GOM | 55 Respondents × 3 Reports = 165 | 330
551.9(c) | Notify BOEM to relinquish a permit | 1/2 | 2 Notices | 1
Subtotal |  |  | 300 responses | 5,274 hours
30 CFR 551.10 through 551.13
551.10(c) | File appeals | Exempt under 5 CFR 1320.4(a)(2), (c). |  | 0
551.11; 551.12 | Notify BOEM and submit G&G data and/or information collected and/or processed by permittees, bidders, or 3rd parties, etc., including reports, logs or charts, results, analyses, descriptions, information as required, and agreements | 4 | 40 Submissions | 160
551.13 | Request reimbursement for certain costs associated with reproducing data/information | 2 | 40 Submissions | 80
Subtotal |  |  | 80 responses | 240 hours
30 CFR 551.14
551.14(a), (b) | Submit comments on BOEM intent to disclose data and/or information to the public | 1 | 2 Comments | 2
551.14(c)(2) | Submit comments on BOEM intent to disclose data and/or information to an independent contractor/agent | 1 | 2 Comments | 2
551.14(c)(4) | Contractor/agent submits written commitment not to sell, trade, license, or disclose data and/or information without BOEM consent | 1 | 2 Commitments | 2
551.1-551.14 | General departure and alternative compliance requests not specifically covered elsewhere in part 551 regulations | 1 | 2 Requests | 2
Subtotal |  |  | 8 responses | 8 hours
Extension for Permit Form & Recordkeeping
551.14(b) (BOEM-0327) | Request extension of permit time period; enter agreements | 1 | 100 Extensions | 100
| Retain G&G data/information for 10 years and make available to BOEM upon request | 1 | 130 Recordkeepers | 130
Subtotal |  |  | 230 responses | 230 hours
Total Burden |  |  | 707 Responses | 9,876 Hours
|  |  | $175,044 Non-Hour Cost Burden
* Fees are subject to modification per inflation annually.
** Burden hours for Alaska Region and Atlantic OCS significantly higher because of NEPA and mitigation requirements. There are currently no such activities ongoing in the Pacific Region.

Estimated Reporting and Recordkeeping Non-Hour Cost Burden: We have identified one non-hour cost burden for this collection of information. Under § 551.5(a) there is an application fee of $2,012 when respondents submit a permit application (refer to the table above).

Public Disclosure Statement: The PRA (44 U.S.C. 3501, et seq.) provides that an agency may not conduct or sponsor a collection of information unless it displays a currently valid OMB control number. Until OMB approves a collection of information, you are not obligated to respond.

Comments: We invite comments concerning this information collection on:

• Whether or not the collection of information is necessary, including whether or not the information will have practical utility;

• The accuracy of our burden estimates;

• Ways to enhance the quality, utility, and clarity of the information to be collected; and

• Ways to minimize the burden on respondents.

If you have costs to generate, maintain, and disclose this information, you should comment and provide your total capital and startup costs or annual operation, maintenance, and purchase of service costs. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (a) Before October 1, 1995; (b) to comply with requirements not associated with the information collection; (c) for reasons other than to provide information or keep records for the Government; or (d) as part of customary and usual business or private practices.

We will summarize written responses to this notice and address them in our submission for OMB approval. As a result of your comments, we will make any necessary adjustments to the burden in our submission to OMB.

Public Availability of Comments: Before including your address, phone number, email address, or other personal identifying information in your comment, you should be aware that your entire comment—including your personal identifying information—may be made publicly available at any time. While you can ask us in your comment to withhold your personal identifying information from public review, we cannot guarantee that we will be able to do so.

Dated: August 13, 2014.
Deanna Meyer-Pietruszka,
Chief, Office of Policy, Regulations, and Analysis.

[FR Doc. 2014-19980 Filed 8-21-14; 8:45 am]

BILLING CODE 4310-MR-P